DEPARTMENT OF HEALTH AND HUMAN SERVICES

National Institutes of Health

National Institute of Mental Health; Notice of Meeting

Pursuant to section 10(a) of the Federal Advisory Committee Act, as amended (5 U.S.C. App.), notice is hereby given of a meeting of the Interagency Autism Coordinating Committee (IACC) Subcommittee for Planning the Annual Strategic Planning Process.

The purpose of the Subcommittee for Planning the Annual Strategic Planning Process is to plan the process for annually updating the IACC Strategic Plan for Autism Spectrum Disorder Research. The Subcommittee meeting will be conducted as a telephone conference call. This meeting is open to the public through a conference call phone number.

Name of Committee: Interagency Autism Coordinating Committee (IACC).

Type of meeting: Subcommittee for planning the Annual Strategic Planning Process.

Date: October 15, 2009.

Time: 2 p.m. to 4 p.m. Eastern Time.

Agenda: To discuss the outcome of the IACC Scientific Workshop that took place on September 30 and October 1, 2009.

Conference Call: Dial: 888-455-2920. Access code: 1050786.

Contact Person: Ms. Lina Perez, Office of Autism Research Coordination, Office of the Director, National Institute of Mental Health, NIH, 6001 Executive Boulevard, NSC, Room 8200, Bethesda, MD 20892-9669. Phone: 301-443-6040.E-mail: IACCPublicInquiries@mail.nih.gov.

Please Note: The meeting will be open to the public through a conference call phone number. Individuals who participate using this service and who need special assistance, such as captioning of the conference call or other reasonable accommodations, should submit a request at least 4 days prior to the meeting.

Members of the public who participate using the conference call phone number will be able to listen to the meeting but will not be heard. This phone call may end prior to or later than 4 p.m., depending on the needs of the subcommittee.

This meeting is being published less than 15 days prior to the meeting due to the timing limitations for the Subcommittee to review and discuss the outcomes from the IACC Workshop and to be able to present their proposals at the IACC meeting on October 23.

Information about the IACC is available on the Web site: http://www.iacc.hhs.gov.

Dated: October 5, 2009.
Jennifer Spaeth,
Director, Office of Federal Advisory Committee Policy.

[FR Doc. E9-24473 Filed 10-9-09; 8:45 am]

BILLING CODE 4140-01-P